DEPARTMENT OF THE INTERIOR

National Park Service

National Register of Historic Places; Notification of Pending Nominations

Nominations for the following properties being considered for listing in the National Register were received by the National Park Service before January 11, 2003. Pursuant to section 60.13 of 36 CFR part 60 written comments concerning the significance of these properties under the National Register criteria for evaluation may be forwarded by United States Postal Service, to the National Register Historic Places, National Park Service, 1849 C St., NW., 2280, Washington, DC 20240; by all other carriers, National Register of Historic Places, National Park Service, 1201 Eye St., NW., 8th floor, Washington, DC 20005; or by fax, 202-354-2229. Written or faxed comments should be submitted by February 18, 2003.

Carol D. Shull,
Keeper of the National Register of Historic Places.

CALIFORNIA

Mariposa County

Camp 4, Northside Dr., Yosemite National Park, Yosemite, 03000056

San Bernardino County

First Christian Church of Rialto, 201 N. Riverside Ave., Rialto, 03000037

Ventura County

Camarillo Ranch House, 201 Camarillo Ranch Rd., Camarillo, 03000039

COLORADO

Lincoln County

Limon Railroad Depot (Railroads in Colorado, 1858-1948 MPS), 897 First St., Limon, 03000038

FLORIDA

Pinellas County

North Shore Historic District, Bounded by 4th St. N, 5th Ave., N, Tampa Bay, and 30th Ave., N, St. Petersburg, 03000040

LOUISIANA

West Feliciana Parish

Red Hat Cell Block, Louisiana State Penitentiary, Louisiana State Penitentiary, Angola, 03000041

NEW MEXICO

Valencia County

Otero's 66 Service (Route 66 through New Mexico MPS), 100 Main St., Los Lunas, 03000051

NEW YORK

Broome County

Ouaquaga Lenticular Truss Bridge, Dutchman Rd. over Susquehanna R, Ouaquaga, 03000048

Chautauqua County

Erie Railroad Station, 211-217 W. Second St., Jamestown, 03000045

Delaware County

Jackson-Aitken Farm, 3240 Fall Clove Rd., Andes, 03000044

Steuben County

Adsit House, 34 Main St., Hornell, 03000047

Sullivan County

Masten-Quinn House, 59 First St., Wurtsboro, 03000046

OHIO

Cuyahoga County

East Ohio Gas Company Building, 1403 E. Sixth St., Cleveland, 03000043

First Church of Christ, Scientist, 2200 Overlook Rd., Cleveland, 03000042

OREGON

Lake County

Mitchell Recreation Area, Forest Service Rd. 34, Bly, 03000050

Wasco County

Mosier Mounds Complex, Address Restricted, Mosier, 03000053

UTAH

Weber County

Ogden Central Bench Historic District, 20th St. to 30th St., Adams Ave. to Harrison Blvd., Ogden, 03000055

VIRGINIA

Winchester Independent City

Winchester Historic District (Boundary Increase), 120 and 126 N. Kend St., Winchester (Independent City), 03000054

WISCONSIN

Kenosha County

Simmons Island Beach House, 5001 Simmons Island, Kenosha, 03000057

[FR Doc. 03-2327 Filed 1-30-03; 8:45 am]

BILLING CODE 4310-70-M